DEPARTMENT OF ENERGY

Federal Energy Regulatory Commission

[Docket No. EC00-50-000, et al.]

EMI Dartmouth, Inc., et al.; Electric Rate and Corporate Regulation Filings

January 21, 2000.

Take notice that the following filings have been made with the Commission:

1. EMI Dartmouth, Inc., El Paso Energy Corporation, El Paso Power Holding Company, Dartmouth Power Holding Company, L.L.C., Dartmouth Power Generation, L.L.C., Mesquite Investors, L.L.C.

[Docket No. EC00-50-000]

Take notice that on January 18, 2000, pursuant to Section 203 of the Federal Power Act (FPA), 16 U.S.C. § 824b (1998) and Part 33 of the Regulations of the Federal Energy Regulatory Commission (Commission), 18 CFR 33 et seq., EMI Dartmouth, Inc. on behalf of itself and the limited partners of Dartmouth Power Associates Limited Partnership, El Paso Energy Corporation (EP Holding), El Paso Power Holding Company, Dartmouth Power Holding Company, L.L.C. (DPH), Dartmouth Power Generation, L.L.C., (DPG) and Mesquite Investors, L.L.C. (Mesquite) (collectively, Applicants) filed an application requesting that the Commission approve the sale and transfer by EMI of 100% of the ownership interest in Dartmouth Power Associates Limited Partnership (Dartmouth), a Massachusetts limited partnership that owns an electric generating facility and makes sales of capacity and associated electricity from the facility pursuant to two rate schedules on file with the Commission, to DPH and DPG. At present DPH and DPG are wholly-owned subsidiaries of EP Holding. Subsequent to the acquisition of the interests in Dartmouth by DPH and DPG, EP Holding will transfer all of its ownership interest in DPH and DPG to Mesquite and DPH and DPG will become subsidiaries of Mesquite.

Comment date: February 17, 2000, in accordance with Standard Paragraph E at the end of this notice.

2. Columbia Energy Power Marketing Corporation

[Docket No. EC00-51-000]

Take notice that on January 18, 2000, Columbia Energy Power Marketing Corporation filed an application for an order authorizing the proposed transfer of Applicant's wholesale power sales agreements to Enron Power Marketing, Inc.

Comment date: February 17, 2000, in accordance with Standard Paragraph E at the end of this notice.

3. AmerGen Energy Company, L.L.C.

[Docket No. EG00-27-000]

Take notice that on January 13, 2000, AmerGen Energy Company, L.L.C., submitted a supplement to its application for exempt wholesale generator status.

Comment date: February 11, 2000, in accordance with Standard Paragraph E at the end of this notice. The Commission will limit its consideration of comments to those that concern the adequacy or accuracy of the amended application.

4. Platte-Clay Electric Cooperative, Inc.

[Docket No. EL00-35-000]

Take notice that on January 12, 2000, Platte-Clay Electric Cooperative, Inc. (Platte-Clay) filed a request for waiver of the requirements of Order No. 888 and Order No. 889 pursuant to 18 CFR 35.28(d) of the Federal Energy Regulatory Commission's (Commission) Regulations. Platte-Clay's filing is available for public inspection at its offices in Kearney, Missouri.

Comment date: February 11, 2000, in accordance with Standard Paragraph E at the end of this notice.

5. AC Power Corporation, Lambda Energy Marketing Company, TransCanada Power Marketing Ltd., Symmetry Devise Research, Inc., Spokane Energy, L.L.C., Southern Energy California, L.L.C.

[Docket No. ER97-2867-010, ER94-1672-020, ER98-564-006, ER96-2524-008, ER98-4336-006, ER99-1841-002]

Take notice that on January 14, 2000, the above-mentioned power marketers filed quarterly reports with the Commission in the above-mentioned proceedings for information only.

6. DukeSolutions, Unicom Power Marketing, Inc., Alliance Power Marketing, Inc., First Power, L.L.C., First Power, L.L.C., Illinova Energy Partners, Inc., Koch Energy Trading, Inc., Cargill-Alliant, LLC

[Docket No. ER98-3813-006, ER97-3954-011, ER96-1818-016, ER97-3580-008, ER97-3580-009, ER94-1475-019, ER95-218-020, ER97-4273-010]

Take notice that on January 18, 2000, the above-mentioned power marketers filed quarterly reports with the Commission in the above-mentioned proceedings for information only.

7. Alliant Energy Industrial Services, Inc.

[Docket No. ER99-1775-002]

Take notice that on January 12, 2000, Alliant Energy Industrial Services, Inc. filed their quarterly reports for the third and fourth quarters for information only.

8. Foote Creek II, LLC, Foote Creek III, LLC

[Docket No. ER00-1119-000]

Take notice that on January 14, 2000, Foote Creek II, LLC and Foote Creek III, LLC filed their quarterly report for the quarter ending December 31, 2000.

Comment date: February 10, 2000, in accordance with Standard Paragraph E at the end of this notice.

9. Bangor Hydro-Electric Company, Westchester RESCO Company, L.P., Murphy Oil USA, Inc.

[Docket No. ER00-1124-000, ER00-1128-000, ER00-1129-000]

Take notice that on January 18, 2000, the above-mentioned affiliated power producers and/or public utilities filed their quarterly reports for the quarter ending December 31, 1999.

Comment date: February 10, 2000, in accordance with Standard Paragraph E at the end of this notice.

10. Maine Electric Power Company, Inc.

[Docket No. ES00-14-000]

Take notice that on January 13, 2000, Maine Electric Power Company, Inc. submitted an application pursuant to Section 204 of the Federal Power Act, seeking authority to issue and renew on or before December 31, 2002, bank loans maturing one year or less after the date of issuance in an aggregate face amount not to exceed $9,500,000 at any time.

Comment date: February 11, 2000, in accordance with Standard Paragraph E at the end of this notice.

11. John C. Barpoulis, David N. Bassett, Mark V. Carney, John R. Cooper, F. Joseph Feyder, George J. Grunbeck, Sanford L. Hartman, J. W. Maitland Horner, P. Chrisman Iribe, Nancy A. Manning, Peter E. Meier, William F. Quinn, Suzanne Rich, M. Richard Smith, Steven A. Wolfgram

Docket Nos. ID-3447-000, ID-3134-004, ID-3429-001, ID-3132-006, ID-3448-000, ID-3235-002, ID-3275-002, ID-3276-001, ID-3131-007, ID-3425-001, ID-3237-003, ID-3449-000, ID-3278-001, ID-3277-003, ID-3238-002]

Take notice that on January 10, 2000, the above named individuals filed with the Federal Energy Regulatory Commission, an application for authority to hold interlocking positions in Athens Generating Company, L.P. and Mantua Generating Company, L.P., both with their principal place of business at 7500 Old Georgetown Road, Bethesda, Maryland 20814.

Comment date: February 9, 2000, in accordance with Standard Paragraph E at the end of this notice.

12. Central Maine Power Company

[Docket No. ER00-605-000]

Take notice that on January 14, 2000, Central Maine Power Company (CMP or Central Maine), provided unredacted copies of an Hydro Quebec Entitlement Agreement (Entitlement Agreement) between CMP and Select Energy, Inc. (Select), in compliance with the Commission's January 11, 2000 Order Denying A Request for Confidential Treatment.

CMP reiterates its request for a final non-appealable order on or before February 22, 2000.

CMP states that copies of the filing have been sent to Select and the Maine Department of Public Utilities Commission.

Comment date: February 3, 2000, in accordance with Standard Paragraph E at the end of this notice.

13. Florida Power Corporation

[Docket No. ER00-1116-000]

Take notice that on January 18, 2000, Florida Power Corporation (Florida Power), tendered for filing a Short Term Firm Transmission Service Agreement and a Non-Firm Transmission Service Agreement pursuant to its open access transmission tariff.

Florida Power requests that the Commission waive its notice of filing requirements and allow the agreements to become effective on January 19, 2000.

Comment date: February 7, 2000, in accordance with Standard Paragraph E at the end of this notice.

14. Alliant Energy Corporate Services, Inc.

[Docket No. ER00-1118-000]

Take notice that on January 18, 2000, Alliant Energy Corporate Services, Inc. (Alliant Energy), tendered for filing executed Service Agreement for short-term firm point-to-point transmission service, establishing Reliant Energy Services, Inc., as a point-to-point Transmission Customer under the terms of the Alliant Energy Corporate Services, Inc. transmission tariff.

Alliant Energy Corporate Services, Inc., requests an effective date of December 20, 1999, and accordingly, seeks waiver of the Commission's notice requirements.

A copy of this filing has been served upon the Illinois Commerce Commission, the Minnesota Public Utilities Commission, the Iowa Department of Commerce, and the Public Service Commission of Wisconsin.

Comment date: February 7, 2000, in accordance with Standard Paragraph E at the end of this notice.

15. MidAmerican Energy Company

[Docket No. ER00-1117-000]

Take notice that on January 18, 2000, MidAmerican Energy Company (MidAmerican), 666 Grand Avenue, Des Moines, Iowa 50309, filed with the Commission a Firm Transmission Service Agreement with Alliant Energy Corporation (Alliant), dated December 21, 1999, MidAmerican's Open Access Transmission Tariff.

MidAmerican requests an effective date of January 1, 2000 for the Agreement and seeks a waiver of the Commission's notice requirement.

MidAmerican has served a copy of the filing on Alliant, the Iowa Utilities Board, the Illinois Commerce Commission and the South Dakota Public Utilities Commission.

Comment date: February 7, 2000, in accordance with Standard Paragraph E at the end of this notice.

16. Commonwealth Edison Company

[Docket No. ER00-1125-000]

Take notice that on January 17, 2000, Commonwealth Edison Company (ComEd) tendered for filing a Service Agreement for Network Integration Service (Service Agreement) and a Network Operating Agreement (Operating Agreement) between ComEd and Peoples Energy Services Corporation (PESC). These agreements will govern ComEd's provision of network service to serve retail load under the terms of ComEd's Open Access Transmission Tariff (OATT).

ComEd requests an effective date of December 27, 2000, and accordingly, seeks waiver of the Commission's notice requirements.

Copies of this filing were served on PESC.

Comment date: February 7, 2000, in accordance with Standard Paragraph E at the end of this notice.

17. Southwestern Public Service Company

[Docket No. ER00-1126-000]

Take notice that on January 18, 2000, New Century Services, Inc., on behalf of Southwestern Public Service Company (Southwestern), tendered for filing an executed umbrella service agreement under Southwestern's market-based sales tariff with El Paso Electric Company (EPE). This umbrella service agreement provides for Southwestern's sale and EPE's purchase of capacity and energy at market-based rates pursuant to Southwestern's market-based sales tariff.

Comment date: February 7, 2000, in accordance with Standard Paragraph E at the end of this notice.

18. Allegheny Energy Service Corporation on behalf of West Penn Power Company

[Docket No. ER00-1127-000]

Take notice that on January 18, 2000, Allegheny Energy Service Corporation, on behalf of West Penn Power Company (WP), tendered for filing a Power Service Agreement under which WP will provide full requirements service to the Letterkenny Industrial Development Authority.

The parties request a May 3, 1999 effective date.

Copies of the filing have been provided to the Pennsylvania Public Utility Commission and all parties of record.

Comment date: February 7, 2000, in accordance with Standard Paragraph E at the end of this notice.

19. Southwestern Public Service Company

[Docket No. ER00-1120-000]

Take notice that on January 18, 2000, New Century Services, Inc., on behalf of Southwestern Public Service Company (Southwestern), tendered for filing an executed umbrella service agreement under Southwestern's market-based sales tariff with Reliant Energy Services, Inc., (Reliant). This umbrella service agreement provides for Southwestern's sale and Reliant's purchase of capacity and energy at market-based rates pursuant to Southwestern's market-based sales tariff.

Comment date: February 7, 2000, in accordance with Standard Paragraph E at the end of this notice.

20. Southwestern Public Service Company

[Docket No. ER00-1121-000]

Take notice that on January 18, 2000, New Century Services, Inc., on behalf of Southwestern Public Service Company (Southwestern), tendered for filing an executed umbrella service agreement under Southwestern's market-based sales tariff with Texas-New Mexico Power Company (TNP). This umbrella service agreement provides for Southwestern's sale and TNP's purchase of capacity and energy at market-based rates pursuant to Southwestern's market-based sales tariff.

Comment date: February 7, 2000, in accordance with Standard Paragraph E at the end of this notice.

21. Southwestern Public Service Company

[Docket No. ER00-1122-000]

Take notice that on January 18, 2000, New Century Services, Inc., on behalf of Southwestern Public Service Company (Southwestern), tendered for filing an executed umbrella service agreement under Southwestern's market-based sales tariff with UtiliCorp United, Inc., (UtiliCorp). This umbrella service agreement provides for Southwestern's sale and UilitiCorp's purchase of capacity and energy at market-based rates pursuant to Southwestern's market-based sales tariff.

Comment date: February 7, 2000, in accordance with Standard Paragraph E at the end of this notice.

22. Wisconsin Electric Power Company

[Docket No. ER00-1123-000]

Take notice that on January 18, 2000, Wisconsin Electric Power Company (Wisconsin Electric), tendered for filing a notification indicating a name change for an electric service agreement under its Coordination Sales Tariff (FERC Electric Tariff, First Revised Volume No. 2) as requested by the customer.

Wisconsin Electric respectfully requests effective December 31, 1999, service Agreement No. 102 with El Paso Power Services Company, is changed to El Paso Merchant Energy, L.P. (EPME).

Wisconsin Electric requests waiver of any applicable regulation to allow for the effective dates as requested above.

Copies of the filing have been served on EPME, the Michigan Public Service Commission, and the Public Service Commission of Wisconsin.

Comment date: February 7, 2000, in accordance with Standard Paragraph E at the end of this notice.

23. New England Power Pool

[Docket No. ER00-934-000]

Take notice that on January 18, 2000, the New England Power Pool Participants Committee tendered for filing a correction to its December 29, 1999, filing in the above-referenced docket. Additionally, NEPOOL has requested a waiver of the Commission's notice requirements to permit the corrected filing to become effective as of March 1, 2000.

The NEPOOL Participants Committee states that copies of these materials were sent to the New England state governors and regulatory commissions and the Participants in the New England Power Pool.

Comment date: February 7, 2000, in accordance with Standard Paragraph E at the end of this notice.

24. Great Bay Power Corporation

[Docket No. ER00-1138-000]

Take notice that on January 18, 2000, Great Bay Power Corporation (Great Bay), tendered for filing service agreements between Consolidated Edison Energy, Inc. and Great Bay and between Consolidated Edison Solutions, Inc., and Great Bay for service under Great Bay's revised Tariff for Short Term Sales. This Tariff was accepted for filing by the Commission on July 24, 1998, in Docket No. ER98-3470-000.

The service agreements are proposed to be effective January 1, 2000.

Comment date: February 7, 2000, in accordance with Standard Paragraph E at the end of this notice.

25. Consumers Energy Company

[Docket No. ER00-1137-000]

Take notice that on January 18, 2000, Consumers Energy Company (Consumers), tendered for filing Amendment No. 1 to its Service Agreement with Edison Sault Electric Company for Network Integration Transmission Service (designated Service Agreement No. 1 under Consumers Energy Company FERC Electric Tariff No. 6). The Amendment changes Exhibit A to the Service Agreement, which lists network loads and resources.

Copies of the filing were served upon the Customer and the Michigan Public Service Commission.

Comment date: February 7, 2000, in accordance with Standard Paragraph E at the end of this notice.

26. Consumers Energy Company

[Docket No. ER00-1136-000]

Take notice that on January 18, 2000, Consumers Energy Company (Consumers), tendered for filing an executed service agreement for unbundled wholesale power service with Edison Sault Electric Company pursuant to Consumers' Market Based Power Sales Tariff accepted for filing in Docket No. ER98-4421-000.

Copies of the filing have been served on the Michigan Public Service Commission and the customer under the respective service agreement.

Comment date: February 7, 2000, in accordance with Standard Paragraph E at the end of this notice.

27. Commonwealth Edison Company

[Docket No. ER00-1134-000]

Take notice that on January 18, 2000, Commonwealth Edison Company (ComEd), tendered for filing a revised executed Service Agreement for Network Integration Transmission Service between ComEd and the Illinois Municipal Electric Agency (IMEA) under the terms of ComEd's Open Access Transmission Tariff. This agreement modifies and supersedes a Network Integration Transmission Service Agreement currently on file between ComEd and IMEA.

Copies of the filing were served on IMEA and the Illinois Commerce Commission.

Comment date: February 7, 2000, in accordance with Standard Paragraph E at the end of this notice.

28. Southwest Power Pool, Inc.

[Docket No. ER00-1133-000]

Take notice that on January 18, 2000, Southwest Power Pool, Inc. (SPP), tendered for filing four executed service agreements for Loss Compensation Service with ConAgra Energy Services, Inc., Oklahoma Gas & Electric Company, Sempra Energy Trading Corporation, and TransAlta Energy Marketing (U.S.) Inc.

SPP requests an effective date of January 1, 2000, for each of these agreements.

Copies of this filing were served upon all signatories.

Comment date: February 7, 2000, in accordance with Standard Paragraph E at the end of this notice.

29. Kansas City Power & Light Company

[Docket No. ER00-1132-000]

Take notice that on January 18, 2000, Kansas City Power & Light Company (KCPL), tendered for filing a Service Agreement dated January 12, 2000, between KCPL Transmission Services and KCPL Power Services. This Agreement provides for the rates and charges for Short-term Firm Transmission Service.

In its filing, KCPL states that the rates included in the above-mentioned Service Agreement are KCPL's rates and charges in the compliance filing to FERC Order No. 888-A in Docket No. OA97-636-000.

Comment date: February 7, 2000, in accordance with Standard Paragraph E at the end of this notice.

30. American Electric Power Service Corporation

[Docket No. ER00-1131-000]

Take notice that on January 18, 2000, the American Electric Power Service Corporation (AEPSC), on behalf of Indiana Michigan Power Company (I&M), tendered for filing with the Commission Facilities, Operations and Maintenance Agreement dated December 17, 1999, between I&M and Hoosier Energy Electric Cooperative.

AEPSC requests an effective date of January 1, 2000 for the agreement.

A copy of the filing was served upon Hoosier Energy Electric Cooperative and the Indiana Utility Regulatory Commission.

Comment date: February 7, 2000, in accordance with Standard Paragraph E at the end of this notice.

31. Commonwealth Edison Company

[Docket No. ER00-1130-000]

Take notice that on January 18, 2000, Commonwealth Edison Company (ComEd), tendered for filing an executed service agreement establishing Northern States Power Company (NSP), as a customer under ComEd's FERC Electric Market Based-Rate Schedule for power sales. ComEd requests that the Commission substitute the Service Agreement for the unexecuted agreement with NSP previously filed under the MBR, and requests that the Commission establish the same effective date as was established in the original filing for the unexecuted agreement for which this agreement is being substituted.

Copies of the filing were served on NSP.

Comment date: February 7, 2000, in accordance with Standard Paragraph E at the end of this notice.

32. Consumers Energy Company

[Docket No. ER00-1135-000]

Take notice that on January 18, 2000, Consumers Energy Company (Consumers), tendered for filing executed service agreements for Firm and Non-Firm Point-to-Point Transmission Service with both DTE Energy Trading, Inc. and Nordic Electric LLC (Customers). All of the agreements were pursuant to the Joint Open Access Transmission Service Tariff filed on December 31, 1996 by Consumers and The Detroit Edison Company (Detroit Edison).

The DTE Energy Trading, Inc., Agreements have effective dates of January 1, 2000. The Nordic Electric, LLC Agreements have effective dates of January 7, 2000.

Copies of the filing were served upon the Michigan Public Service Commission, Detroit Edison, and the Customers.

Comment date: February 7, 2000, in accordance with Standard Paragraph E at the end of this notice.

33. Florida Power Corporation

[Docket No. ER00-1116-000]

Take notice that on January 18, 2000, Florida Power Corporation (Florida Power), tendered for filing a Short Term Firm Transmission Service Agreement and a Non-Firm Transmission Service Agreement pursuant to its open access transmission tariff.

Florida Power requests that the Commission waive its notice of filing requirements and allow the agreements to become effective on January 19, 2000.

Comment date: February 7, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-1942 Filed 1-26-00; 8:45 am]

BILLING CODE 6717-01-P